GENERAL SERVICES ADMINISTRATION

[Notice-QQE-2020-01; Docket No. 2020-0002; Sequence No. 1]

Publication of Website Standards

AGENCY: Technology Transformation Services (TTS), Federal Acquisition Service (FAS), General Services Administration (GSA).

ACTION: Notice.

SUMMARY: The 21st Century Integrated Digital Experience Act requires any public website of an executive agency to comply with GSA's website standards. GSA publishes the standards at https://designsystem.digital.gov/website-standards. To notify agencies of revisions to the website standards, GSA will periodically update the U.S. Web Design System website and publish notices in the Federal Register.

DATES: The website standards were first published on January 22, 2020. They were last revised on January 22, 2020.

FOR FURTHER INFORMATION CONTACT: For clarification of content, contact Mr. Jacob Parcell, Director, Innovation Portfolio, Technology Transformation Services, at 202-208-7139, or by email at uswds@support.digitalgov.gov.

Please cite Notice of website Standards.

Dated: January 16, 2020.
Anil Cheriyan,
Deputy Commissioner, Federal Acquisition Service and Director, Technology Transformation Services.

[FR Doc. 2020-01068 Filed 1-22-20; 8:45 am]

BILLING CODE 4733-01-P